OFFICE OF PERSONNEL MANAGEMENT

[OPM 1300, OMB Control No. 3206-0082]

Submission for Review: Reinstatement of a Previously Approved Collection With Revisions, Presidential Management Fellows (PMF) Program Annual Application

AGENCY: U.S. Office of Personnel Management.

ACTION: 60-Day notice and request for comments.

SUMMARY: The Office of Personnel Management (OPM) offers the general public and other Federal agencies the opportunity to comment on a revised information collection request (ICR) 3206-0082, OPM 1300 (PMF Program Annual Application).

DATES: Comments are encouraged and will be accepted until June 20, 2023. This process is conducted in accordance with 5 CFR 1320.1.

ADDRESSES: Interested persons are invited to submit written comments on the proposed information collection by one of the following means:

• Federal Rulemaking Portal: http://www.regulations.gov. All submissions received must include the agency name and docket number for this Federal Register document. The general policy for comments and other submissions from members of the public is to make these submissions available for public viewing on the internet at http://www.regulations.gov as they are received without change, including any personal identifiers or contact information.

• Email: pmf@opm.gov. Please put “OPM 1300” in the subject line of the email.

FOR FURTHER INFORMATION CONTACT: A copy of this information collection request, with applicable supporting documentation, may be obtained by contacting the PMF Program Office, Office of Personnel Management, 1900 E Street NW, Suite 2469, Washington, DC 20415, Attention: Brandon Jacobsen, or via electronic mail to pmf@opm.gov with the subject line of “OPM 1300.”

SUPPLEMENTARY INFORMATION: As required by the Paperwork Reduction Act of 1995, (Pub. L. 104-13, 44 U.S.C. chapter 35) as amended by the Clinger-Cohen Act (Pub. L. 104-106), OPM is soliciting comments for this collection. OPM 1300, PMF Annual Application, is the Federal Government's centralized source for current and recent graduates to apply to the PMF Program to be selected as Finalists and reflects the minimal critical elements collected across the Federal Government to begin an application under the authority of Executive Order 13572 of December 27, 2010, and subparts A and D of part 362 of Title 5, Code of Federal Regulations. This revision proposes to reinstate a previously approved collection with revisions. Revisions include a new multi-part assessment process during the application process for all applicants and a structured interview for those applicants selected as Semi-Finalists. The burden hours have been adjusted as a result of the changes. Therefore, we invite comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office of Personnel Management.

Title: OPM 1300.

OMB Number: 3206-0082.

Frequency: Annually.

Affected Public: Individuals.

Number of Respondents: 8,318.

Estimated Time per Respondent: 102 Minutes.

Total Burden Hours: 14,140.6.

U.S. Office of Personnel Management.
Stephen Hickman,
Federal Register Liaison.

[FR Doc. 2023-08350 Filed 4-19-23; 8:45 am]

BILLING CODE 6325-43-P